DEPARTMENT OF TRANSPORTATION

Federal Transit Administration

Notice of Limitation on Claims Against a Proposed Public Transportation Project

AGENCY: Federal Transit Administration (FTA), DOT.

ACTION: Notice of Limitation on Claims.

SUMMARY: This notice announces a final agency action taken by the Federal Transit Administration (FTA) for the Dulles Corridor Metrorail Project, a public transportation project in the Washington, DC metropolitan area. The purpose of this notice is to announce the decision by FTA not to perform supplemental review under the National Environmental Policy Act (NEPA) on the subject project and to activate the limitation on any claims that may challenge this final agency action. This notice does not alter or extend the limitation period of 180 days for challenges of project decisions subject to a previous notice published in the Federal Register on December 4, 2006.

DATES: By this notice, FTA is advising the public of a final agency action subject to Title 23, United States Code (U.S.C.), section 139(l). Any claim seeking judicial review of the FTA action announced herein for the listed public transportation project will be barred unless the claim is filed on or before November 26, 2007.

FOR FURTHER INFORMATION CONTACT: Carl Bausch, Office of Planning and Environment, 202-366-1626, or Christopher Van Wyk, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken a final agency action for the public transportation project listed below. This notice describes the action taken for which the 180-day statute of limitations will apply. Nothing in this notice affects the FTA's previous decisions, or notice thereof, for this project. More specifically, the statute of limitations for the approvals documented in the project's November 17, 2006, amended Record of Decision and the environmental documents on which it is based will still expire on June 4, 2007, as noticed in the Federal Register on December 4, 2006 (71 FR 70449). This notice only applies to the discrete action taken by FTA at this time that is described below.

The project and action subject to this notice are:

Project name and location: Dulles Corridor Metrorail Project; metropolitan Washington, DC. Project sponsor: Virginia Department of Rail and Public Transportation, Washington Metropolitan Area Transit Authority (WMATA), and Metropolitan Washington Airports Authority. Project description: The project is an extension of the Washington regional Metrorail system in Fairfax and Loudoun Counties, Virginia. It will include approximately 23 miles of electrically-powered rapid rail transit operating in exclusive right-of-way with at-grade, aerial, and subway sections, 11 new stations, parking facilities, new and improved yard and shop facilities, new rail vehicles, and related systems and equipment. The project has two phases, with the first phase extending from the existing Metrorail Orange Line near the West Falls Church Station through Tysons Corner to a temporary terminus at Wiehle Avenue in Reston. The second phase of the project will extend west of Wiehle Avenue to Dulles International Airport and eastern Loudoun County. Between Tysons Corner and the Airport, the project is generally aligned in the median of the Dulles International Airport Access Highway. Final agency action: FTA has reviewed information provided from various sources on the feasibility of using large-bore tunnel technology for the underground design option through the entire Tysons Corner commercial district. Based on its review, the FTA determined on May 18, 2007, that its decision during the National Environmental Policy Act (NEPA) process to reject an entirely underground design option through Tysons Corner remains valid and is unaffected by the information it has received on the availability of large-bore tunnel technology. Thus, FTA has decided that it is not necessary to perform a supplemental NEPA review of project alternatives at this time. Additional information on the recent submissions and the FTA decision that are described above may be obtained by contacting the individuals listed above.

Authority: 23 U.S.C. 139(l)

Issued on: May 23, 2007.
Susan Borinsky,
Associate Administrator for Planning and Environment, Washington, DC.

[FR Doc. E7-10281 Filed 5-29-07; 8:45 am]

BILLING CODE 4910-57-P